ENVIRONMENTAL PROTECTION AGENCY

[FRL-7439-3]

EPA National Advisory Council for Environmental Policy and Technology Notification of Public Advisory Committee Teleconference Meeting

AGENCY: Environmental Protection Agency (EPA).

ACTION: Notification of Public Advisory Committee teleconference meeting.

SUMMARY: Pursuant to the Federal Advisory Committee Act, Public Law 92-463, notice is hereby given that the National Advisory Council for Environmental Policy and Technology (NACEPT) will meet in a public teleconference on Wednesday, January 29 from 10 a.m. to 12 p.m. Eastern Time. The meeting will be hosted out of the main conference room, U.S. EPA, 655 15th Street, NW., Suite 800, Washington, DC 20005. The meeting is open to the public, however, due to limited space, seating will be on a registration-only basis. For further information regarding the teleconference meeting, or how to register and obtain the phone number, please contact the individuals listed below.

Background: NACEPT is a federal advisory committee under the Federal Advisory Committee Act, Public Law 92-463. NACEPT provides advice and recommendations to the Administrator and other EPA officials on a broad range of domestic and international environmental policy issues. NACEPT consists of a representative cross-section of EPA's partners and principle constituents who provide advice and recommendations on policy issues and serves as a sounding board for new strategies that the Agency is developing. The Compliance Assistance Advisory Committee (CAAC) is one of the subcommittees under the auspices of NACEPT.

Purpose of Meeting: The NACEPT Council will review and discuss the Compliance Assistance Advisory Committee's comments on EPA's Draft 2003-2008 Strategic Plan Architecture. EPA is currently soliciting public comments on the draft goals and objectives that will provide the structure for the new Strategic Plan. This meeting will also provide the full NACEPT Council the opportunity to make recommendations on EPA's strategic planning architecture. If NACEPT approves the recommendations provided by the CAAC, then it will be submitted to EPA's Office of the Chief Financial Officer.

Availability of Review Materials: EPA's Draft FY 2003-2008 Strategic Plan Architecture is available electronically from EPA's Office of Chief Financial Officer, at http://www.epa.gov/ocfopage/plan/plan.htm.

FOR FURTHER INFORMATION CONTACT: Members of the public wishing to gain access to the conference room on the day of the meeting must contact Ms. Gwen Whitt, Designated Federal Officer for NACEPT, U.S. Environmental Protection Agency (1601E), Office of Cooperative Environmental Management, 655 15th Street, NW., Suite 800, Washington, DC 20005; telephone/voice mail at (202) 233-0079 or via e-mail at whitt.gwen@epa.gov. You may also contact Sonia Altieri at (202) 233-0061 if you have any questions. The agenda will be available to the public upon request. Written comments from the public are welcome any time before or during the meeting.

General Information: Additional information concerning the National Advisory Council for Environmental Policy and Technology (NACEPT) can be found on our Web site (http://www.epa.gov/ocem).

Meeting Access: Individuals requiring special accommodation at this meeting, including wheelchair access to the conference room, should contact Mr. Whitt at least five business days prior to the meeting so that appropriate arrangements can be made.

Dated: January 9, 2003.
Mark Joyce,
Acting Designated Federal Officer.

[FR Doc. 03-967 Filed 1-15-03; 8:45 am]

BILLING CODE 6560-50-P